DEPARTMENT OF HOMELAND SECURITY

Coast Guard

33 CFR Part 117

[USCG-2001-10881]

RIN 1625-AA36

Drawbridge Operation Regulations; Amendment to Drawbridge Operation Regulations

AGENCY: Coast Guard, DHS.

ACTION: Notice of proposed rulemaking.

SUMMARY: The Coast Guard is proposing changes to its drawbridge regulations. These proposed changes include provisions for placing drawbridges on winter operations schedules in the Eighth and Ninth Coast Guard District and adding a new deviation procedure for drawbridge closures for local public events. We also propose to add several definitions, rewrite some sections and to make technical and conforming changes to this part. The last major update to the drawbridge regulations in Part 117 was in 1984. The Coast Guard proposes to amend 33 CFR part 117 to provide clearer language and more easily understood regulatory requirements.

DATES: Comments and related material must reach the Docket Management Facility on or before June 2, 2003. Comments sent to the Office of Management and Budget (OMB) on collection of information must reach OMB on or before June 16, 2003.

ADDRESSES: To make sure that your comments and related material are not entered more than once in the docket, please submit them by only one of the following means:

(1) Electronically through the Web site for the Docket Management System at http://dms.dot.gov.

(2) By mail to the Docket Management Facility (USCG-2001-10881), U.S. Department of Transportation, room PL-401, 400 Seventh Street SW., Washington, DC 20590-0001.

(3) By fax to the Docket Management Facility at 202-493-2251.

(4) By delivery to room PL-401 on the Plaza level of the Nassif Building, 400 Seventh Street SW., Washington, DC, between 9 a.m. and 5 p.m., Monday through Friday, except Federal holidays. The telephone number is 202-366-9329.

You must also mail comments on collection of information to the Office of Information and Regulatory Affairs, Office of Management and Budget, 725 17th Street NW., Washington, DC 20503, ATTN: Desk Officer, U.S. Coast Guard.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: Mr. Chris Jaufmann, Office of Bridge Administration, United States Coast Guard Headquarters, (202) 267-0368. If you have questions on viewing or submitting material to the docket, call Dorothy Beard, Chief, Dockets, Department of Transportation, telephone 202-366-5149.

SUPPLEMENTARY INFORMATION:

Request for Comments

We encourage you to participate in this rulemaking by submitting comments and related material. If you do so, please include your name and address, identify the docket number for this rulemaking, USCG-2001-10881, indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know that they reached the Facility, please enclose a stamped, self-addressed postcard or envelope. We will consider all comments and material received during the comment period. We may change this proposed rule in view of them.

Public Meeting

We do not now plan to hold a public meeting. You may submit a request for a meeting by writing to the Office of Bridge Administration at the address under ADDRESSES explaining why one would be beneficial. If we determine that one would be helpful, we will hold one at a time and place announced by a later notice in the Federal Register.

Background and Purpose

The last major update to the drawbridge regulations in part 117 was in 1984. The Coast Guard proposes to amend 33 CFR part 117 to provide clearer language and more easily understood regulatory requirements.

Discussion of Proposed Rule

The Coast Guard proposes to revise the winter operations provisions for drawbridges in the Ninth Coast Guard District and to expand those provisions to include drawbridges in the northern areas of the Eighth Coast Guard District, which are also affected by winter weather conditions. We propose adding a new deviation for drawbridge closures for local public events; to add six new definitions to the part; making a substantive revision to the regulation governing the removable span bridge across Lindsey Slough; and including in subpart A a specific requirement that all drawbridges be cycled a minimum of once every six months. We also propose to rewrite and reorganize sections in subpart A, and to make technical and conforming changes in subpart B.

Winter Operations in the Eighth and Ninth Coast Guard Districts

The Coast Guard proposes to revise § 117.45, Operation during winter season in the Great Lakes area. The revision would clarify the existing procedures for placing drawbridges in the Ninth Coast Guard District on advance notice operations during the winter season. This revision would allow the same procedures for placing drawbridges in the Eighth Coast Guard District on advance notice operation during the winter season. Historically, the winter season in both of these Districts runs from early December to early April, but winter conditions could start earlier or end later in the season.

Depending on the winter weather conditions, certain drawbridges in both Coast Guard Districts are placed on winter operations schedules each year, although not all of the drawbridges are placed on winter operations at the same times during the winter season. Some of these drawbridges have specific operating requirements in subpart B, while others operate on signal as required by 33 CFR 117.5, so a single permanent deviation cannot cover all these bridges. Historically, 28 bridges for the Eighth District and between 10 and 20 bridges for the Ninth District are placed on winter operations each year.

This proposed revision to § 117.45 would provide that the District Commanders in the Eighth and Ninth Coast Guard Districts may issue deviations from existing regulations, authorizing 12-hour advance notice operations for these bridges and allowing them to be untended during the published dates for winter operations for the bridges. The deviation provision would allow the District Commanders the flexibility both to maximize the use of the waterways for navigation during mild winters and the ability to allow the drawbridges to go to winter operations schedules earlier based on the early onset of winter conditions. Each year, prior to the start of the winter operations schedules for these bridges, the District Commanders would publish a notice of deviation in the Federal Register.

Drawbridge Closures for Local Public Events

The Coast Guard proposes to add a deviation for local public events that need a drawbridge closure of six hours or less. The short duration and frequency of local public events, such as street parades, marathons, races, or sporting events, make a deviation for drawbridge closures of six hours or less an appropriate method for authorizing the change in operations and giving the public notice of these temporary closures.

The data in Figure 1 shows that the length of closure for most local public events during 1999 and 2000 was less then six hours.

Figure 1
Year | No. of drawbridges affected | < = 6 hours event | > 6 hours event
1999 | 44 | 42 | 2
2000 | 39 | 39 | 0

For this proposed deviation, a single event could last a maximum of two days; however, the combined drawbridge closure time for both days of a single event could not exceed a total of six hours. If the authorized closure period for an event is broken into separate time periods on the same day or on consecutive days, the drawbridge would provide normal openings for navigation between the authorized closures. This proposed deviation would be in a new § 117.37 Temporary change in drawbridge operating schedule for local public events.

If the temporary drawbridge closure totals more than six hours, the District Commander would issue a temporary rule for the event period.

The District Commander would also issue a temporary rule for events totaling less than six hours, for which a notice of the deviation cannot be published in the Federal Register before the start of the event.

Cycling of Drawbridges

To clarify the bridge owner's responsibility to operate drawbridges at “sufficient intervals”, the Coast Guard proposes to rewrite § 117.7(b)(3) to require the cycling of the drawbridges at least once every six months. This required cycling may be in conjunction with routine operation or maintenance of the bridge and will ensure that a drawbridge that opens infrequently still operates properly.

Definitions

The Coast Guard proposes to add six definitions in subpart A to be used throughout part 117. These definitions would clarify the terms “Automated drawbridge”, “Deviation”, “Public vessel”, “Remotely operated drawbridge”, “Removable drawspan bridge”, and “Untended” in this part. We also propose to reword the four definitions currently in § 117.4—“Appurtenance”, “Lowerable”, “Nonstructural” and “Not essential to navigation” for plain language.

Lindsey Slough

The Coast Guard proposes to remove the word “maintenance” from § 117.165 there by requiring any vessel wanting to pass through the removable span bridge, across Lindsey Slough, to give a 72-hour advance notice.

The bridge was constructed in the 1960's and the permit to build the bridge dictated the opening requirement. A final rule setting a time requirement of 72 hours advance notice for passage was published in 49 FR 17452, on April 24, 1984. At the time, the primary focus was on access for maintenance barges and the term maintenance was included in the rule. However, the removable span has never been removed for any vessel and to do so would require a barge with a crane to be brought in to remove the span. Because the bridge has not had a request to open since 1984, the proposal to remove the term maintenance and require all vessels to provide 72-hours advance notice would seem to meet the reasonable needs of navigation and would not cause any undue burden on navigation.

Other Proposed Changes

Clarifications

The Coast Guard proposes to add three new sections to clarify existing requirements in part 117. We propose to add § 117.8 to explain how to request a permanent change to the operation of a drawbridge; § 117.36 to more clearly explain the closure requirements of a drawbridge for emergency repair and § 117.42 to clarify the requirements for remotely operated and automated drawbridges.

Section 117.35 would be rewritten to more clearly explain the closure requirements of a drawbridge for scheduled and unscheduled repairs.

This proposed rule would also rewrite the following sections to clarify their requirements: §§ 117.39, 117.41, 117.43, and 117.51.

Consolidations

The Coast Guard proposes to consolidate some sections in part 117 to provide clear guidance of their requirements and to remove redundant language. Sections § 117.3 and § 117.53 would be combined with § 117.1 to explain the purpose of part 117. The requirements in § 117.57 would be moved to subpart A and redesignated as § 117.40 since these requirements apply generally to drawbridges operated on advance notice.

Edits

The Coast Guard proposes to make minor corrections and edits, renumber some sections, and make technical and conforming changes through out the part. The sections that would be affected are: §§ 117.5, 117.31, 117.55, 117.145, 117.155, 117.193, 117.997(b)(2)(i) and (d)(2)(i).

Renumbering

The section headings for §§ 117.486, 117.487, and 117.488 are out of alphabetical order. These would be renumbered.

Similarly, this proposed rule would also redesignate §§ 117.731 and 117.731a as §§ 117.730 and 117.731.

Remove

Some sections and paragraphs are currently designated as “Reserved” or “Removed”. This proposed rule would remove them and renumber the sections and redesignate paragraphs as necessary: (§§ 117.261 (e),(f),(h),(i),(m),(n),(q),(y),(ii),(pp), 117.271(b), 117.287(d)(3), 117.867, 117.881(b), 117.885, 117.891, 117.1039.)

Drawbridges that have been removed from the waterway or replaced by a fixed drawbridge no longer require regulations. These sections and paragraphs will be removed from subpart B. (§§ 117.261(c), (r), (hh), (nn), 117.277, 117.535, 117.620(a), 117.739(o) and (p)(3), 117.775, 117.783, 117.795(c), 117.821(a)(1), 117.907.) The Federal Street Bridge in § 117.713(a) has been replaced with a fixed bridge.

Some sections and paragraphs make unnecessary distinctions between tugs and tows and commercial and recreational vessels. This proposed rule would remove: §§ 117.325(b), 117.588(c), 117.618(b), 117.620(c), 117.869(a)(1), (a)(2).

Reference to clearance gauges in § 117.733(a) and § 117.949, are the same as the requirements in § 118.160. The Coast Guard proposes to remove the reference to clearance gauges from §§ 117.733(a) and 117.949.

The information in Appendix A is available not only on the Bridge Administration (G-OPT) Web site, http://www.uscg.mil/hq/g-o/g-opt/g-opt.htm, but is also published in the Coast Pilots. The Coast Guard proposes to remove Appendix A this part.

References to Federal, State, and local government vessels, emergency vessels or vessels in distress, which repeats requirements contained in § 117.31, would be removed from: §§ 117.181, 117.187(b), 117.195, 117.211(a)(3), 117.219(a), 117.221(a), 117.224(a), 117.225, 117.261(a), 117.269, 117.273(a) and (b), 117.287(a), 117.289, 117.291, § 117.305, 117.311, 117.313(a), 117.315(a) and (b), 117.317(a), 117.325(a) and (b), 117.353(a), 117.531(a)(1), 117.571(d), 117.573(c), 117.588(a), 117.597, 117.605(c), 117.620(a), 117.703(a), 117.731(c), 117.736, § 117.738(a)(2), 117.745(a)(1), 117.789(a), 117.791(a)(3), 117.797(a), 117.799(a), 117.823(a)(3), 117.843(a)(3), 117.892, 117.911(a), 117.968, 117.977, 117.993(a), 117.997(f)(2) and (g), § 117.1023(b).

Regulatory Evaluation

This proposed rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Homeland Security (DHS).

We expect the economic impact of this proposed rule to be so minimal that a full Regulatory Evaluation under the regulatory policies and procedures of DHS is unnecessary. There will be no cost to the general public. This proposal is to provide a more user-friendly part 117 that will remove redundancies and regulations that are no longer functional, make corrections and amendments, and provide clearer language for the user.

The addition of a new prevision that changes approximately 30 drawbridges from open-on-demand to advance notice during the winter season, throughout the Eighth and Ninth Coast Guard Districts, will not have a significant effect on the economy. Commercial and recreational vessel traffic is at its least during this time of the year.

The development of a new deviation for short-term events will not have a significant impact on the economy. This deviation allows the district commander to provide notice to the public in a timely manner without a possible 120 day long rule making process for an event that could last as short as 15 minutes and as long as six hours.

Small Entities

Under the Regulatory Flexibility Act (5 U.S.C. 601-612), we considered whether this proposed rulemaking would have a significant economic impact on a substantial number of small entities. The term “small entities” comprises small businesses, not-for-profit organizations that are independently owned and operated and are not dominant in their fields, and governmental jurisdictions with populations of less than 50,000. If you think that your business, organization, or governmental jurisdiction qualifies as a small entity and that this proposed rule would have a significant economic impact on it, please submit a comment (see ADDRESSES) explaining why you think it qualifies and how and to what degree this proposed rule would economically affect it.

Assistance for Small Entities

In accordance with section 213(a) of the Small Business Regulatory Enforcement Fairness Act of 1996 (Pub. L. 104-121), the Coast Guard would assist small entities in understanding the proposed rule so that they could better evaluate its effects on them and participate in the rulemaking. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for a collection of information under the Paperwork Reduction Act of 1995 (44 U.S.C. 3501-3520). As defined in 5 CFR 1320.3(c), “collection of information” comprises reporting, recordkeeping, monitoring, posting, labeling, and other, similar actions. The title and description of the information collections, a description of those who must collect the information, and an estimate of the total annual burden follow. The estimate covers the time for reviewing instructions, searching existing sources of data, gathering and maintaining the data needed, and completing and reviewing the collection.

Title: Supporting Statement For Request For OMB Approval Under The Paperwork Reduction Act and 5 CFR 1320 SF-83-I: Changes To Drawbridge Operations

Summary of the Collection of Information: Under the provisions of 33 U.S.C. 499, the Secretary of Homeland Security is mandated to prescribe rules and regulations for governing the closures of drawbridges to navigation. This authorization was delegated to the Commandant of the Coast Guard under Department of Homeland Security Delegation number 0170 and the drawbridge operating regulations are set out in 33 CFR part 117. To change any regulation, 5 U.S.C. 553 requires rule making to be published in the Federal Register and that the notice shall include a statement of time, place, and nature of public rule making proceedings. The information collected for the rule can only be obtained from the bridge owners. The information collection requirements are contained in 33 CFR 117.35(a), 117.37(b), and 117.39.

Need for Information: To change any regulation, 5 U.S.C. 553 requires rule making to be published in the Federal Register. The information collected for the rule can only be obtained from the bridge owners. The information collection requirements are contained in 33 CFR 117.35(a), 117.37(b), and 117.39.

Proposed Use of Information:

—Determine if the request to close the drawbridge is necessary.

—Coordinate the bridge closure period(s) between the bridge owner and navigational traffic.

—Notify the public and navigational community of the date, time, length of closure periods, and reason for closure.

Description of the Respondents: State governments, Local municipalities, railroads.

Number of Respondents: 150.

Frequency of Response: 150.

Burden of Response: Nationwide, approximately 20,000 bridges are primarily owned by States, local municipalities and railroads. The Bridge Administration receives approximately 150 requests from approximately 150 bridge owners per year to authorize changes to general or specific drawbridge regulations. The estimated “annual hour burden”, nationwide is therefore approximately 150 hours (1 hour per request). This burden estimate is based on the length of time it takes to generate a letter containing the required information for the requested change, to the District Bridge Administrator. The letter is prepared by someone at the clerical level, equivalent to a (GS-7). Therefore, we estimate that the average annual cost to prepare 150 letters with a change of request would be $4,350, as described below:

Estimate of Total Annual Burden:

Personnel | Per request: Hourly rate * | Per request: Hours | Per request: Total | Total (per year): No. of requests | Total (per year): Hours | Total (per year): Cost
Clerical Level equivalent to (GS-7) | $29 | 1 | $29 | 150 | 150 | $4,350
Totals |  | 1 | 29 | 150 | 150 | 4,350
*Based on hourly rates for government personnel in Enclosure (2) to COMDTINST 73101.1F.

As required by the Paperwork Reduction Act of 1995 (44 U.S.C. 3507(d)), we have submitted a copy of this proposed rule to the Office of Management and Budget (OMB) for its review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. Before the requirements for this collection of information become effective, we will publish notice in the Federal Register of OMB's decision to approve, modify, or disapprove the collection.

Federalism

We have analyzed this proposed rule under Executive Order 13132 and have determined that this proposed rule would not have implications for Federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not economically significant and does not concern an environmental risk to health or risk to safety that may disproportionately affect children.

Environment

We considered the environmental impact of this proposed rule and concluded that, under figure 2-1, paragraph (32)(e), of Commandant Instruction M16475.lC, this proposed rule is categorically excluded from further environmental documentation. A “Categorical Exclusion Determination” is available in the docket where indicated under ADDRESSES.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 117

Bridges.

Regulations

For the reasons set out in the preamble, the Coast Guard proposes to amend 33 CFR part 117 as follows:

PART 117—DRAWBRIDGE OPERATION REGULATIONS

1. Revise the authority citation for part 117 to read as follows:

Authority: 33 U.S.C. 499; Department of Homeland Security Delegation No. 0170; and 33 CFR 1.05-1(g).

2. Revise § 117.1 to read as follows:

§ 117.1 Purpose.

(a) This part prescribes the general and special drawbridge operating regulations that apply to the drawbridges across the navigable waters of the United States and its territories. The authority to regulate drawbridges across the navigable waters of the United States is vested in the Secretary of Homeland Security.

(b) Subpart A of this part contains the general use, operation, and requirements that apply to all drawbridges.

(c) Subpart B of this part contains the requirements for operation of individual drawbridges. These requirements are in addition to or vary from the general requirements in subpart A of this part. Specific sections in subpart B of this part which vary from a general requirement in subpart A of this part supersede the general requirement. All other general requirements in subpart A of this part that are not at variance, apply to the bridges listed in subpart B of this part.

§ 117.3 [Removed]

3. Remove § 117.3.

4. Revise § 117.4 to read as follows:

§ 117.4 Definitions.

The following definitions apply to this part: Appurtenance means an attachment or accessory extending beyond the hull or superstructure that is not an integral part of the vessel and is not needed for a vessel's piloting, propelling, controlling, or collision avoidance capabilities.

Automated drawbridge means a drawbridge that is operated by an automated mechanism, not a drawtender. An automated drawbridge is normally kept in the open to navigation position and closes when the mechanism is activated.

Deviation means a District Commander's action authorizing a drawbridge owner to temporarily not comply with the drawbridge opening requirements in this part.

Lowerable means the nonstructural vessel appurtenance can be mechanically or manually lowered and raised again. The term lowerable also applies to a nonstructural vessel appurtenance, which can be modified to make the item flexible, hinged, collapsible, or telescopic so that it can be mechanically or manually lowered and raised again.

Nonstructural means that the item is not rigidly fixed to the vessel and could be relocated or altered.

Not essential to navigation means that nonstructural vessel appurtenance, when in the lowered position, would not adversely affect the vessel's piloting, propulsion, control, or collision avoidance capabilities.

Public vessel means a vessel that is owned and operated by the United States Government and is not engaged in commercial service, as defined in 46 U.S.C. 2101.

Remotely operated drawbridge means a drawbridge that is operated by remote control from a location away from the bridge.

Removable span bridge means a bridge that requires the complete removal of a span by means other than machinery installed at the bridge.

Untended means that there is no drawtender at the bridge.

5. Revise § 117.5 to read as follows:

§ 117.5 When the drawbridge shall open.

Except as otherwise authorized or required by this part, drawbridges must open promptly and fully for the passage of vessels when a request or signal to open is given in accordance with this subpart.

6. Revise § 117.7 to read as follows:

§ 117.7 General requirements of drawbridge owners.

Drawbridge owners must:

(a) Provide the necessary drawtender(s) for the safe and prompt opening of the drawbridge.

(b) Maintain the working machinery of the drawbridge in good operating condition.

(c) Cycle the drawspan(s) a minimum of once every six months to assure their satisfactory operation.

(d) Ensure that the drawbridge operates in accordance with the requirements of this part.

7. Add § 117.8 to read as follows:

§ 117.8 Permanent changes to drawbridge operation.

(a) A drawbridge owner may request a permanent change to a drawbridge operation requirement in this part by submitting a written request, with appropriate information and supporting documentation, to the District Commander.

(b) If after evaluating the request, the District Commander determines that the requested change is not needed, he will inform the drawbridge owner in writing and provide the reasons for denial of the requested change.

(c) If the District Commander decides that a change may be needed, he or she will begin a rulemaking.

8. In § 117.31 revise the section heading and paragraph (a) to read as follows:

§ 117.31 Drawbridge operations for emergency vehicles and emergency vessels.

(a) A drawtender, who receives notification that an emergency vehicle is responding to an emergency situation, must make all reasonable efforts to have the drawspan closed at the time the emergency vehicle arrives.

* * * * *

9. Revise § 117.35 to read as follows:

§ 117.35 Change in drawbridge operating schedule for maintenance.

(a) Scheduled maintenance. (1) To temporarily change the drawbridge-operating requirements to perform scheduled maintenance, the drawbridge owner must submit a written request to the District Commander for approval of the change.

(2) The request must describe the maintenance to be performed and the dates and times scheduled for the start and end of the maintenance period.

(3) Requests should be submitted as early as possible but not later than 90 days before start of the scheduled maintenance.

(b) Unscheduled maintenance. (1) If unforeseen mechanical or structural problems require a temporary change to the drawbridge-operating schedule to perform unscheduled maintenance, the drawbridge owner must obtain approval from the District Commander.

(2) The request must describe the unforeseen mechanical or structural problems, the maintenance to be performed, and the dates and times scheduled for the start and end of the maintenance period.

(3) Requests for schedule changes under this paragraph should be submitted at least 30 days before the start of the maintenance period.

(c) The District Commander's decision is normally forwarded to the bridge owner within five working days after receipt of the request. If the request is denied, the reasons for the denial will be set out in the District Commander's decision letter.

(d) Publication. (1) For maintenance lasting not more than 60 days, the District Commander may issue a deviation approval letter to the bridge owner and publish a “Notice of deviation from drawbridge regulation” in the Federal Register prior to the start of the maintenance period.

(2) For maintenance lasting more than 60 days, or for shorter periods when a “Notice of deviation from drawbridge regulations” cannot be published before the start of the maintenance period, the District Commander will issue a temporary rule prior to the start of the maintenance.

(3) The District Commander will also announce the drawbridge closure in the Local Notice to Mariners and other appropriate local media.

10. Add § 117.36 to read as follows:

§ 117.36 Closure of drawbridge for emergency repair.

(a) When a drawbridge becomes inoperable or should be immediately rendered inoperable because of mechanical failure or structural defect, the drawbridge owner must notify the District Commander without delay and give the reason for the emergency closure of the drawbridge.

(b) The District Commander will notify mariners about the bridge status through Broadcast Notices to Mariners, Local Notice to Mariners and any other appropriate local media.

(c) Repair work under this section shall be performed with all due speed in order to return the drawbridge to operation as soon as possible.

11. Revise § 117.37 to read as follows:

§ 117.37 Temporary change in drawbridge operating schedule for local public events.

(a) To temporarily close a drawbridge to navigation during local public events, such as a street parade, marathon, race, or sporting event, the drawbridge owner must submit a request to the District Commander for approval of the change.

(b) Requests for a change to the operating schedule of a drawbridge should be submitted as early as possible before the event.

(c) The request must include a description of the event and the dates and times of the period the drawbridge is to remain closed.

(d) The District Commander's decision is normally forwarded to the bridge owner within five working days after receipt of the request. If the request is denied, the reasons for the denial will be set out in the District Commander's decision letter.

(e) If the temporary drawbridge closure is for a single event totaling more than six hours, the District Commander will issue a temporary rule for the event period. The District Commander will also issue a temporary rule for an event totaling less than six hours, which does not meet the requirements in paragraph (f) of this section for issuing a deviation.

(f) The District Commander may issue a deviation from the regulations in this part—

(1) If the authorized closure for a single event covers no more than two days and the total bridge closure time for both days does not exceed a total of six hours;

(2) If temporary drawbridge closure is for six hours or less for a single event, and;

(3) If the District Commander can publish a notice of the deviation in the Federal Register before the start of the event.

(g) The drawbridge will return to its regular operating schedule immediately at the end of the designated time period.

(h) If the authorized closure period for an event is broken into separate time periods on the same day or on consecutive days, the drawbridge should provide normal openings for navigation between the authorized closures.

(i) The District Commander will also announce the drawbridge closure in the Local Notice to Mariners and other appropriate local media.

12. Revise § 117.39 to read as follows:

§ 117.39 Closure of drawbridge due to infrequent requests for openings.

(a) When there have been no requests for drawbridge openings for at least two years, the drawbridge owner may request that the District Commander authorize the drawbridge to remain closed to navigation and to be untended.

(b) Requests to remain closed to navigation must be submitted in writing to the District Commander for approval. The District Commander may authorize the closure and set out conditions, in addition to the requirements in paragraph (c) of this section.

(c) When drawbridges are authorized by the District Commander to remain closed to navigation and to be untended, the drawbridge owner must—

(1) Maintain the drawbridge working machinery in good operating condition;

(2) Cycle the drawspan(s) at least once every six months to assure their satisfactory operation and;

(3) Return the drawbridge to normal operations when required to do so by the District Commander.

(d) Drawbridges authorized under this section to remain closed to navigation and untended will be identified in subpart B of this part.

13. Add § 117.40 to read as follows:

§ 117.40 Advance notice for drawbridge opening.

When a drawbridge requires advance notice for opening, the drawbridge owner shall open the drawbridge at the requested time and allow for reasonable delay in arrival experienced by the vessel giving the advance notice.

(a) 14. Revise § 117.41 to read as follows:

§ 117.41 Maintaining drawbridges in the fully open position.

(a) Drawbridges permanently maintained in the fully open to navigation position may discontinue drawtender service as long as the drawbridge remains fully open to navigation. The drawbridge must remain in the fully open position until drawtender service is restored.

(b) If a drawbridge is normally maintained in the fully open to navigation position, but closes to navigation for the passage of pedestrian, vehicular or rail traffic, the drawbridge must be tended.

15. Add § 117.42 to read as follows:

§ 117.42 Remotely operated and automated bridges.

Upon written request by the owner of a drawbridge the District Commander may authorize a drawbridge to operate under an automated system or from a remote location. After approval, a description of the full operation of the remotely operated or automated drawbridge will be added to subpart B of this part.

16. Revise § 117.43 to read as follows:

§ 117.43 Deviation for testing drawbridge operation changes.

(a) To evaluate the need for a permanent change in regulations for drawbridges, the District Commander may authorize a temporary deviation from the drawbridge operations. The deviation, which may not exceed 90 days, will test a suggested change and seek public comment.

(b) A deviation to test a requested change to the drawbridge operating requirements may be initiated by the District Commander or may be requested by the public or the drawbridge owner.

(c) The District Commander may issue a deviation approval letter to the bridge owner and publish a “Notice of deviation from drawbridge regulation” in the Federal Register at least 30 days prior to the start of the test period. The District Commander will also announce the drawbridge closure in the Local Notice to Mariners and other appropriate local media.

(d) When the test deviation period ends, the drawbridge will resume its normal operation.

17. Revise § 117.45 to read as follows:

§ 117.45 Winter operations.

(a) The Commanders, Eighth and Ninth Coast Guard Districts, may issue deviations from regulations that authorize drawbridges located in their respective Coast Guard District area, to require 12 hours advance notice for drawbridge openings and to be untended during the winter season.

(b) Each year, before drawbridges in the Eighth and Ninth Coast Guard Districts begin winter season operations, the District Commander will publish a notice or notices of deviation authorizing the winter operations schedule in the Federal Register giving:

(1) The name and location of the bridge(s) affected;

(2) The period of time covered; and

(3) The telephone number of the party to whom requests for openings are given.

(c) The District Commander may provide additional notice of these deviations in the Local Notices to Mariners and other appropriate media.

18. Revise § 117.51 to read as follows:

§ 117.51 General.

The drawbridges in this subpart are listed by the waterway they cross and by the state in which they are located. Waterways are arranged alphabetically by state. The drawbridges listed under a waterway are generally arranged in order from the mouth of the waterway moving upstream. The drawbridges on the Atlantic Intracoastal Waterway are listed from north to south and on the Gulf Intracoastal Waterway from east to west.

§ 117.53 [Removed]

19. Remove § 117.53.

20. In § 117.55 revise paragraph (a) to read as follows:

§ 117.55 Posting of requirements.

(a) The owner of each drawbridge under this subpart, other than removable span bridges, shall ensure that a sign summarizing the requirements in this subpart applicable to the bridge is posted both upstream and downstream of the bridge. The requirements to be posted need not include those in subpart A of this section or §§ 117.51 through 117.59.

* * * * *

§ 117.57 [Removed]

21. Remove § 117.57.

22. Revise § 117.145 to read as follows:

§ 117.145 Burns Cutoff.

The Daggett Road Drawbridge, mile 3.0 at Stockton, must open on signal if at least 48 hours notice is given to the Port of Stockton.

23. Revise § 117.155 to read as follows:

§ 117.155 Eureka Slough.

The Northwestern Pacific Railroad Company Drawbridge, mile 0.3 at Eureka, need not be opened for the passage of vessels. The owner or agency controlling the bridge must restore the drawbridge to full operation within six months of notification from the District Commander.

24. Revise § 117.165 to read as follows:

§ 117.165 Lindsey Slough.

The center span of the Hastings Farms highway bridge, mile 2.0 between Egbert and Lower Hastings Tracts, must be removed for the passage of vessels if at least 72 hours notice is given to the Hastings Island Land Company office at Rio Vista.

§ 117.181 [Amended]

25. In § 117.181 remove the last sentence.

§ 117.187 [Amended]

26. In § 117.187 remove the last sentence in paragraph (b).

27. Revise § 117.193 to read as follows:

§ 117.193 San Leandro Bay.

The California Department of Transportation Highway drawbridges, mile 0.0 and the City of Alameda bicycle bridge, mile 0.1 between Alameda and Bay Farm Island, must open on signal; except that, from 5 a.m. to 8 a.m. and 5 p.m. to 9 p.m., the drawbridges must open on signal if at least 12 hours notice is given. Notice must be given to the drawtender of the Bay Farm Island bridges from 8 a.m. to 5 p.m. and to the drawtender of the Park Street bridge at Alameda at all other times. The draws need not be opened for the passage of vessels from 9 p.m. to 5 a.m.

§ 117.195 [Amended]

28. In § 117.195 remove the last sentence.

29. In § 117.211 revise paragraph (a)(3) to read as follows:

§ 117.211 Mystic River.

(a) * * *

(3) Public vessels of the United States, commercial vessels must be passed immediately at any time; however, the opening may be delayed no longer than eight minutes to allow trains, which have entered the drawbridge block and are scheduled to cross the bridge without stopping, to clear the block.

* * * * *

30. In § 117.219 revise paragraph (a) to read as follows:

§ 117.219 Pequonnock River.

(a) Public vessels of the United States shall be passed through as soon as possible.

* * * * *

31. In § 117.221 revise paragraph (a) to read as follows:

§ 117.221 Saugatuck River.

(a) Public vessels of the United States shall be passed through as soon as possible.

* * * * *

32. In § 117.224 revise paragraph (a) to read as follows:

§ 117.224 Thames River.

* * * * *

(a) Immediately on signal for public vessels of the United States and commercial vessels; except, when a train scheduled to cross the bridge, without stopping, has passed the Midway, Groton, or New London stations and is in motion toward the bridge, the draw must not be opened for the passage of any vessel until the train has crossed the bridge; and

* * * * *

33. Revise § 117.225 to read as follows:

§ 117.225 Yellow Mill Channel.

The drawn of the Stratford Avenue bridge, mile 0.3 at Bridgeport, shall open on signal if at least 24-hours notice is given. Public vessels of the United States shall pass through as soon as possible.

34. In § 117.255 add paragraph (c) to read as follows:

§ 117.255 Potomac River.

* * * * *

(c) This section is also issued under the authority of Pub. L. 102-587, 106 Stat. 5039.

35. Revise § 117.261 to read as follows:

§ 117.261 Atlantic Intracoastal Waterway from St. Marys River to Key Largo.

(a) General. Public Vessels of the United States shall be passed through the drawspan of each bridge listed in this section at any time.

(b) McCormick Bridge, mile 747.5 at Jacksonville Beach. The draw shall open on signal; except that during April, May, October and November from 7 a.m. to 9 a.m. and 4:30 p.m. to 6:30 p.m. Monday through Friday except Federal holidays, the draw need open only on the hour and half hour. During April, May, October and November from 12 noon to 6 p.m. Saturdays, Sundays and Federal holidays, the draw need open only on the hour and half hour.

(c) Bridge of Lions (SR A1A) bridge, mile 777.9 at St. Augustine. The draw shall open on signal; except that, from 7 a.m. to 6 p.m. the draw need open only on the hour and half-hour; however, the draw need not open at 8 a.m., 12 noon, and 5 p.m. Monday through Friday except Federal holidays. From 7 a.m. to 6 p.m. on Saturdays, Sundays and Federal holidays the draw need only open on the hour and half-hour.

(d) Memorial bridge, mile 830.6 at Daytona Beach. The draw shall open on signal; except that, from 7:45 a.m. to 8:45 a.m. and 4:45 p.m. to 5:45 p.m. Monday through Saturday except Federal holidays, the draw need open only at 8:15 a.m. and 5:15 p.m.

(e) NASA Railroad bridge, mile 876.6 at Kennedy Space Center.

(1) The draw is not constantly tended.

(2) The draw is normally in the fully open position displaying flashing green lights to indicate that vessels may pass.

(3) When a train approaches the bridge, the train stops and the operator initiates a command to lower the bridge. The lights go to flashing red and the draw lowers and locks, providing scanning equipment reveals nothing under the draw. The draw remains down until a manual raise command is initiated, or will rise automatically 5 minutes after the intermediate track circuit is no longer occupied by a rail car.

(4) After the train has cleared, the draw opens and the lights return to flashing green.

(f) State Road 402, Max Brewer bridge, mile 878.9 at Titusville. The draw shall open on signal; except that, from 6 a.m. to 7:15 a.m. and 3:15 p.m. to 4:30 p.m., Monday through Friday, except federal holidays, the draw need not open.

(g) John F. Kennedy Space Center bridge, mile 885 at Addison Point. The draw shall open on signal; except that, from 6:30 a.m. to 8 a.m. and 3:30 p.m. to 5 p.m. Monday through Friday, except Federal holidays, the draw need not open.

(h) Jensen Beach (SR 707a) bridge, mile 981.4 at Stuart. The draw shall open on signal; except that from December 1 through May 1, from 7 a.m. to 6 p.m., Monday through Friday, except federal holidays, the draw need open only on the hour and half-hour.

(i) Ernest Lyons (SR A1A) bridge, mile 984.9 at Stuart. The draw shall open on signal; except that, from December 1 through May 1, from 7 a.m. to 6 p.m., Monday through Friday, except federal holidays, the draw need open only on the hour and half-hour.

(j) PGA Boulevard Bridge, mile 1012.6. The draw shall open on signal; except that, from 7 a.m. to 9 a.m. and 4 p.m. to 7 p.m., Monday through Friday except Federal holidays, the draw need open only on the quarter-hour and three-quarter hour. On Saturdays, Sundays and Federal holidays from 8 a.m. to 6 p.m., the draw need open only on the hour, 20 minutes after the hour, and 40 minutes after the hour. On weekdays except Federal holidays from November 1 through April 30 from 9 a.m. to 4 p.m., the draw need open only on the hour, 20 minutes after the hour, and 40 minutes after the hour.

(k) Parker (US 1) bridge, mile 1013.7. The draw shall open on signal; except that, from 7 a.m. to 9 a.m. and 4 p.m. to 7 p.m. Monday through Friday except Federal holidays, the draw need open only on the hour and half-hour. On Saturdays, Sundays and Federal holidays from 8 a.m. to 6 p.m., the draw need open only on the hour, 20 minutes after the hour, and 40 minutes after the hour. On weekdays except Federal holidays from November 1 through April 30 from 9 a.m. to 4 p.m., the draw need open only on the hour, 20 minutes after the hour, and 40 minutes after the hour.

(l) Flagler Memorial (SR A1A) bridge, mile 1021.9 at Palm Beach. The draw shall open on signal, except that from October 1 to May 31, Monday through Friday except Federal holidays, from 7:30 a.m. to 9:30 a.m. and from 4 p.m. to 5:45 p.m., the draw need open only at 8:30 a.m. and 4:45 p.m.; and from 9:30 a.m. to 4 p.m., the draw need open only on the hour and half-hour.

(m) Royal Park (SR 704) bridge, mile 1022.6 at Palm Beach. The draw shall open on signal, except that from October 1 through May 31, Monday through Friday except Federal holidays, from 7:45 a.m. to 9:45 a.m. and from 3:30 p.m. to 5:45 p.m., the draw need open only at 8:45 a.m., 4:30 p.m., and 5:15 p.m. and from (9:30 a.m. to 3:30 p.m., the draw need open only on the quarter-hour and three-quarter hour.

(n) Southern Boulevard (SR 700/80) bridge, mile 1024.7 at Palm Beach. The draw shall open on signal, except that, from October 1 through May 31, Monday through Friday except Federal holidays, from 7:30 a.m. to 9:15 a.m. and from 4:30 p.m. to 6:30 p.m., the draw need open only at 8:15 a.m. and 5:30 p.m. and from 9:15 a.m. to 4:30 p.m., the draw need open only on the quarter-hour and three-quarter hour.

(o) Ocean Avenue bridge, mile 1031.0 at Lantana. The draw shall open on signal; except that, from December 1 to April 30, from 7 a.m. to 6 p.m. Monday through Friday, and from 10 a.m. to 6 p.m. Saturdays, Sundays and federal holidays, the bridge need open only on the hour, quarter-hour, half-hour, and three-quarter-hour.

(p) N.E. 8th Street bridge, mile 1038.7 at Delray Beach. The draw shall open on signal; except that, from November 1 to May 31, from 11 a.m. to 6 p.m., on Saturdays, Sundays, and Federal holidays, the draw need open only on the hour, quarter-hour, half-hour, and three quarter-hour.

(q) Atlantic Avenue (SR806) bridge, mile 1039.6 at Delray Beach. The draw shall open on signal; except that, from November 1 to May 31 from 10 a.m. to 6 p.m. Monday through Friday, the draw need open only on the hour and half-hour.

(r) Boca Club, Camino Real bridge, mile 1048.2 at Boca Raton. The draw shall open on signal, except that from 7 a.m. to 6 p.m., the draw need open only on the hour, quarter-hour, half hour, and three quarter-hour.

(s) Hillsboro Boulevard (SR 810) bridge, mile 1050.0 at Deerfield Beach. The draw shall open on signal; except that, from October 1 through May 31, from 7 a.m. to 6 p.m., on Monday through Thursday, the draw need open only on the hour, 20 minutes after the hour, and 40 minutes after the hour; and from 7 a.m. to 6 p.m., on Friday through Sunday and Federal holidays, the draw need open only on the hour and half-hour.

(t) N.E. 14th Street bridge, mile 1055.0 at Pompano. The draw shall open on signal; except that, from 7 a.m. to 6 p.m., the draw need open only on the quarter-hour and three-quarter hour.

(u) Atlantic Boulevard (SR814) bridge, mile 1056.0 at Pompano. The draw shall open on signal; except that, from 7 a.m. to 6 p.m., the draw need open only on the hour and half-hour.

(v) Commercial Boulevard bridge (SR 870), mile 1059.0, at Lauderdale-by-the-Sea. The draws shall open on signal; except that, from November 1 through May 15 from 8 a.m. to 6 p.m., Monday through Friday, the draw need open only on the hour, quarter-hour, half-hour, and three-quarter hour, and from 8 a.m. to 6 p.m. on Saturdays, Sundays, and Federal holidays, the draw need open only on the hour, 20 minutes after the hour, and 40 minutes after the hour.

(w) Oakland Park Boulevard Bridge, mile 1060.5 at Fort Lauderdale. The draw shall open on signal; except that from November 15 through May 15 from 7 a.m. to 10 p.m., Monday through Friday, the draw need open only on the hour, 20 minutes past the hour, and 40 minutes past the hour, and from 10 a.m. to 10 p.m. on Saturdays, Sundays, and Federal holidays, the draw need open only on the hour, quarter-hour, half-hour, and three-quarter hour.

(x) East Sunrise Boulevard Bridge, mile 1062.6 at Fort Lauderdale. The draw of the East Sunrise Boulevard drawbridge (SR 838), mile 1062.6, at Fort Lauderdale shall open on signal; except that from November 15 to May 15, from 10 a.m. to 6 p.m., the draw need open only on the hour, quarter-hour, half-hour and three-quarter hour.

(y) Hollywood Beach Boulevard (SR820) bridge, mile 1072.2 at Hollywood. The draw shall open on signal; except that from November 15 through May 15 from 10 a.m. to 6 p.m., the draw need open only on the hour and half-hour. From May 16 through November 14 on Saturdays, Sundays, and Federal holidays, from 9 a.m. to 7 p.m., the draw need open only on the hour and half-hour.

(z) Hallandale Beach Boulevard (SR824) bridge, mile 1074.0 at Hallandale. The draw shall open on signal; except that, from 7:15 a.m. to 6:15 p.m., the draw need open only on the quarter-hour and three-quarter hour.

(aa) N.E. 163rd Street (SR826) bridge, mile 1078.0 at Sunny Isles. The draw shall open on signal; except that, from 7 a.m. to 6 p.m. on Monday through Friday except Federal holidays, and from 10 a.m. to 6 p.m. on Saturdays, Sundays, and Federal holidays, the draw need open only on the quarter-hour and three-quarter hour.

(bb) Broad Causeway bridge, mile 1081.4 at Bay Harbor Islands. The draw shall open on signal; except that, from 8 a.m. to 6 p.m., the draw need open only on the quarter-hour and three-quarter hour.

(cc) MacArthur Causeway bridge, mile 1088.8 at Miami. The draw shall open on signal; except that, from November 1 through April 30 from 7 a.m. to 9 a.m. and 4:30 p.m. to 6:30 p.m., the draw need open only on the hour and half-hour.

(dd) Jewfish Creek, mile 1134, Key Largo. The draw shall open on signal; except that from 10 a.m. to sunset, Thursday through Sunday and Federal holidays, the draw need open only on the hour and half hour.

36. Revise § 117.269 to read as follows:

§ 117.269 Biscayne Bay.

The draw of the East Span of the Venetian Causeway bridge, between Miami and Miami Beach, shall open on signal; except that, from November 1 through April 30 from 7:15 a.m. to 8:45 a.m. and 4:45 p.m. to 6:15 p.m. Monday through Friday, the draw need not be opened. However, the draws shall open at 7:45 a.m., 8:15 a.m., 5:15 p.m., and 5:45 p.m. if any vessels are waiting to pass. The draw shall open on signal on Thanksgiving Day, Christmas Day, New Year's Day, and Washington's Birthday. The draw shall open at any time for public vessels of the United States.

§ 117.271 [Amended]

37. In § 117.271 remove paragraph (b) and remove the paragraph designator (a) from paragraph (a).

38. In § 117.273 revise paragraphs (a) and (b) to read as follows:

§ 117.273 Canaveral Barge Canal.

(a) The Christa McAuliffe drawbridge, SR 3, mile 1.0, near Indianola shall open on signal from 6 a.m. to 10 p.m. except that, from 6:15 a.m. to 7:45 a.m. and 3:30 p.m. to 5:15 p.m. Monday through Friday, except Federal holidays, the draw need not open for the passage of vessels. From 10 p.m. to 6 a.m., the draw shall open on signal if at least three hours notice is given. The draw shall open as soon as possible for the passage of public vessels of the United States.

(b) The SR401 drawbridge, mile 5.5 at Port Canaveral, shall open on signal; except that, from 6:30 a.m. to 8 a.m. and 3:30 p.m. to 5:15 p.m. Monday through Friday except Federal holidays, the drawbridge need not be opened for the passage of vessels. From 10 p.m. to 6 a.m., the drawbridge shall open on signal if at least three hours notice is given. The drawbridge shall open as soon as possible for the passage of pubic vessels of the United States.

* * * * *

§ 117.277 [Removed]

39. Remove § 117.277.

40. Revise § 117.287 to read as follows:

§ 117.287 Gulf Intracoastal Waterway.

(a) Public vessels of the United States shall be passed through the draw of each bridge listed in this section at any time.

(b) The draw of the Gasparilla Island Causeway drawbridge, mile 34.3, at Boca Grande shall open on signal; except that from January 1 to May 31, from 7 a.m. to 5 p.m., the draw need open only on the hour, quarter hour, half hour and three quarter hour.

(c) The draw of the Venice Avenue bridge, mile 56.6 at Venice, shall open on signal, except that from 7 a.m. to 4:30 p.m., Monday through Friday except Federal holidays, the draw need open only at 10 minutes after the hour, 30 minutes after the hour and 50 minutes after the hour and except between 4:35 p.m. and 5:35 p.m. when the draw need not open.

(d) The draw of the Hatchett Creek (US-41) bridge, mile 56.9 at Venice, shall open on signal, except that, from 7 a.m. to 4:20 p.m., Monday through Friday except Federal holidays, the draw need open only on the hour, 20 minutes after the hour, and 40 minutes after the hour and except between 4:25 p.m. and 5:25 p.m. when the draw need not open. On Saturdays, Sundays, and Federal holidays from 7:30 a.m. to 6 p.m. the draw need open only on the hour, quarter-hour, half-hour, and three quarter-hour.

(e) The draw of the Siesta Drive bridge, mile 71.6 at Sarasota, Florida shall open on signal, except that from 7 a.m. to 6 p.m. Monday through Friday, except Federal holidays, the draw need open only on the hour, 20 minutes past the hour, and 40 minutes past the hour. On weekends and Federal holidays, from 11 a.m. to 6 p.m., the draw need open only on the hour, 20 minutes past the hour, and 40 minutes past the hour.

(f) The draw of the Ringling Causeway (SR 780) bridge, mile 73.6, shall open on signal; except that, from 7 a.m. to 6 p.m., the draw need open only on the hour and half hour.

(g) The draw of the Cortez (SR 684) bridge, mile 87.4, shall open on signal; except that from 7 a.m. to 6 p.m., the draw need open only on the hour, twenty minutes past the hour and forty minutes past the hour.

(h) The draw of the Anna Maria (SR 64) bridge, mile 89.2, shall open on signal; except that from 7 a.m. to 6 p.m., the draw need open only on the hour, twenty minutes past the hour and forty minutes past the hour.

(i) The draw of the Pinellas Bayway, Structure “E” (SR 679) bridge, mile 113.0 at St. Petersburg Beach, shall open on signal; except that from 9 a.m. to 7 p.m. the draw need open only on the hour, 20 minutes past the hour and 40 minutes past the hour.

(j) The draw of the Pinellas Bayway, Structure “C” bridge, mile 114, at St. Petersburg Beach shall open on signal; except that from 7 a.m. to 7 p.m., the draw need open only on the hour, twenty minutes past the hour, and forty minutes past the hour.

(k) The draw of the Corey Causeway (SR693) bridge, mile 117.7 at South Pasadena, shall open on signal; except that, from 8 a.m. to 7 p.m. Monday through Friday, and 10 a.m. to 7 p.m. Saturdays, Sundays, and Federal holidays, the draw need be opened only on the hour, 20 minutes after the hour, and 40 minutes after the hour.

(l) The draw of the Treasure Island Causeway bridge, mile 119.0, shall open on signal, except that from 7 a.m. to 7 p.m. the draw need open only on the hour, quarter hour, half hour and three quarter hour. From 11 p.m. to 7 a.m. the draw shall open on signal if at least 10 minutes advance notice is given.

(m) The draw of the Welch Causeway (SR699) bridge, mile 122.8 at Madiera Beach, shall open on signal; except that, from 9:30 a.m. to 6 p.m. on Saturdays, Sundays, and Federal holidays, the draw need be opened only on the hour, 20 minutes after the hour, and 40 minutes after the hour.

(n) The draw of the Belleair Causeway bridge, mile 131.8 at Clearwater, shall open on signal; except that, from 12 noon to 6 p.m., on Saturdays, Sundays, and holidays, the draw need be opened only on the hour, quarter hour, half hour, and three-quarter hour.

(o) The draw of the Memorial Clearwater Causeway (SR60) bridge, mile 136.0 at Clearwater, shall open on signal; except that, from 9 a.m. to 6 p.m., the draw need be opened only on the hour, 20 minutes past the hour, and 40 minutes past the hour. From 2 p.m. to 6 p.m. Saturdays, Sundays, and Federal holidays, the draw need be opened only on the hour and half hour.

41. Revise § 117.289 to read as follows:

§ 117.289 Hillsboro Inlet.

The SR A-1-A drawbridge, mile 0.3 at Hillsboro Beach, shall open on signal; except that, from 7 a.m. to 6 p.m., the draw need be opened only on the hour, quarter hour, half hour, and three quarter hour. Public vessels of the United States shall be passed at any time.

42. In § 117.291 revise paragraph (a) to read as follows:

§ 117.291 Hillsborough River.

(a) The drawbridges at Platt Street, mile 0.0, Brorein Street, mile 0.16, Kennedy Boulevard, mile 0.4, Cass Street, mile 0.7, Laurel Street, mile 1.0, West Columbus Drive, mile 2.3, and West Hillsborough Avenue, mile 4.8, must open on signal if at least two hours notice is given; except that, the drawbridge shall open on signal as soon as possible for public vessels of the United States.

* * * * *

43. Revise § 117.305 to read as follows:

§ 117.305 Miami River.

Each drawbridge from the mouth to and including N.W. 27th Avenue bridge, mile 3.7 at Miami, shall open on signal; except that, from 7:30 a.m. to 9 a.m. and 4:30 p.m. to 6 p.m. Monday through Friday except Federal holidays, the drawbridge need not be opened for the passage of vessels. Public vessels of the United States shall be passed at any time.

44. Revise § 117.311 to read as follows:

§ 117.311 New Pass.

The State Road 789 drawbridge, mile 0.05, at Sarasota, need only open on the hour, twenty minutes past the hour, and forty minutes past the hour from 7 a.m. to 6 p.m. From 6 p.m. to 7 a.m., the draw shall open on signal if at least 3 hours notice is given to the bridge tender. Public vessels of the United States shall be passed at any time.

45. In § 117.313 revise paragraph (a) to read as follows:

§ 117.313 New River.

(a) The S.E. Third Avenue drawbridge, mile 1.4 at Fort Lauderdale, shall open on signal; except that, from 7:30 a.m. to 8:30 a.m. and 4:30 p.m. to 5:30 p.m. Monday through Friday, the drawbridge need not be opened for the passage of vessels. Public vessels of the United States shall be passed at any time.

* * * * *

46. Revise § 117.315 to read as follows:

§ 117.315 New River, South Fork.

(a) The Southwest 12th Street drawbridge, mile 0.9 at Fort Lauderdale, shall open on signal; except that, from 7:30 a.m. to 8:30 a.m. and 4:30 p.m. to 5:30 p.m. Monday through Friday, the drawbridge need not be opened for the passage of vessels. Public vessels of the United States shall be passed through the draw as soon as possible.

(b) The SR84 drawbridge, mile 4.4 at Fort Lauderdale, shall open on signal if at least 24 hours notice is given. Public vessels of the United States shall be passed through the draw as soon as possible.

§ 117.317 [Amended]

47. In § 117.317 remove paragraph (a); redesignate paragraphs (b) through (j) as (a) through (i) respectively and in newly redesignated paragraphs (a), and (c), remove the word “Exempt” and add in its place the word “Public”.

48. In § 117.325 remove the last sentence in paragraph (a); and revise paragraph (b) to read as follows:

§ 117.325 St. Johns River.

* * * * *

(b) The Fuller Warren (I10-I95) Drawbridge, mile 25.4, at Jacksonville, must open on signal except that, from 7 a.m. to 9 a.m. and from 4 p.m. to 6 p.m., Monday through Friday except Federal holidays, the drawbridge need not be opened for the passage of vessels. From 9 a.m. to 4 p.m., Monday through Friday except Federal holidays, the drawbridge needs open only on the hour for the passage of vessels.

* * * * *

49. In § 117.353 revise paragraph (a) to read as follows:

§ 117.353 Atlantic Intracoastal Waterway, Savannah River to St. Marys River.

(a) General. Public vessels of the United States shall, upon proper signal, be passed through each drawbridge in this section at any time.

* * * * *

§§ 117.486 through 117.488 [Redesignated]

50. Redesignate §§ 117.486 through 117.488 as follows:

Old section | New section
117.486 | 117.487
117.487 | 117.488
117.488 | 117.486

51. In § 117.531 revise paragraph (a)(1) to read as follows:

§ 117.531 Piscataqua River.

(a) * * *

(1) Public Vessels of the United States, commercial vessels over 100 gross tons, inbound ferry service vessels and inbound commercial fishing vessels must be passed through each drawbridge as soon as possible. The opening signal from these vessels is four or more short blasts of a whistle, horn or a radio request.

* * * * *

§ 117.535 [Removed]

52. Remove § 117.535.

53. In § 117.571 revise paragraph (d) to read as follow:

§ 117.571 Spa Creek.

* * * * *

(d) The drawbridge shall always open on signal for public vessels of the United States.

54. In § 117.573 revise paragraph (c) to read as follows:

§ 117.573 Stoney Creek.

* * * * *

(c) Public vessels of the United States shall be passed as soon as possible.

55. In § 117.588 revise paragraphs (a) and (c) to read as follows:

§ 117.588 Bass River.

* * * * *

(a) Public Vessels of the United States shall be passed as soon as possible.

* * * * *

(c) That the Hall Whitaker drawbridge must open on signal if at least 24 hours notice is given.

56. Revise § 117.597 to read as follows:

§ 117.597 Dorchester Bay.

The William T. Morrisey Boulevard drawbridge, mile 0.0 at Boston, shall open on signal from April 16 through October 14; except that the drawbridge need not open for the passage of vessels from 7:30 a.m. to 9 a.m. and from 4:30 p.m. to 6 p.m. except on Saturdays, Sundays, or holidays observed in the locality. From October 15 through April 15, the drawbridge shall open on signal if at least 24 hours notice is given. Public vessels of the United States shall be passed as soon as possible.

57. In § 117.605 revise paragraph (c) to read as follows:

§ 117.605 Merrimack River.

* * * * *

(c) The Massachusetts Department of Public Works drawbridges, mile 5.8 at Newburyport and mile 12.6 at Rock Village, and Groveland bridge, mile 16.5 at Groveland, shall open on signal if at least two hours notice is given. Public vessels of the United States shall be passed through the drawbridge as soon as possible.

58. In § 117.618 revise paragraph (b) to read as follows:

§ 117.618 Saugus River.

* * * * *

(b) The General Edwards SR1A drawbridge, mile 1.7, between Revere and Lynn, Massachusetts, must open on signal except that from December 1 through March 31 at least 8 hour advance notice must be given.

* * * * *

59. In § 117.620 revise paragraphs (a) and (c) to read as follows:

§ 117.620 Westport River—East Branch.

(a) Public vessels of the United States shall be passed as soon as possible.

* * * * *

(c) That the Westport Point drawbridge, mile 1.2 at Westport, must open on signal if at least 24 hours notice is given.

60. In § 117.703 revise paragraph (a) to read as follows:

§ 117.703 Bass River.

* * * * *

(a) The drawbridge must open on signal if at least six hours notice is given, except that public vessels of the United States shall be passed as soon as possible.

* * * * *

61. In § 117.713 revise paragraph (a) to read as follows:

§ 117.713 Cooper River.

(a) The State Street drawbridge, mile 0.3 and the Conrail bridge at North River Avenue, mile 0.9, shall open on signal if at least four hours notice is given.

* * * * *

§ 117.731 [Redesignated as § 117.730]

62. Redesignate § 117.731 as § 117.730.

§ 117.731a [Redesignated as § 117.731]

63. Redesignate § 117.731a as § 117.731 and in newly redesignated § 117.731, revise paragraph (c) to read as follows:

§ 117.731 Mullica River.

* * * * *

(c) The drawbridge shall open as soon as possible for public vessels of the United States during the periods when four hours notice is required.

§ 117.733 [Amended]

64. In § 117.733 remove paragraph (a) and redesignate paragraphs (b), (c), (d), (e), (f), (g), (h), (i), (j) as paragraphs (a) through (i) respectively.

65. Revise § 117.736 to read as follows:

§ 117.736 Oceanport Creek.

The New Jersey Transit Rail Operations drawbridge, mile 8.4 near Oceanport, shall open on signal from May 15 through September 15 between 5 a.m. and 9 p.m.; except that, the drawbridge need not open 6 a.m. to 7:45 a.m. and 5:30 p.m. to 7:30 p.m on weekdays except holidays. The drawbridge shall open on signal upon four hours notice from May 15 through September 15 between 9 p.m. and 5 a.m., and from September 16 through May 14; except that, the drawbridge need not be opened from 6 a.m. to 7:45 a.m. and 5:30 p.m. to 7:30 p.m. on weekdays except holidays. Public vessels of the United States shall be passed as soon as possible at any time.

66. In § 117.738 revise paragraph (a)(2) to read as follows:

§ 117.738 Overpeck Creek.

(a) * * *

(2) Public vessels of the United States shall be passed through each drawbridge as soon as possible.

* * * * *

§ 117.739 [Amended]

67. In § 117.739 remove paragraphs (o) and (p)(2); redesignate paragraph (p)(3) as (p)(2) and redesignate (p) as (o).

68. In § 117.745 revise paragraphs (a)(1) and (b), introductory text, to read as follows:

§ 117.745 Rancocas River (Creek).

(a) * * *

(1) Public vessels of the United States shall be passed through each drawbridge as soon as possible without delay at any time. The opening signal from these vessels is four or more short blasts of a whistle or horn, or a radio request.

* * * * *

(b) The SR#543 drawbridge, mile 1.3 at Riverside and the SR#38 drawbridge, mile 7.8 at Centerton, shall operate as follows:

* * * * *

§ 117.775 [Removed]

69. Remove § 117.775.

§ 117.783 [Removed]

70. Remove § 117.783.

71. In § 117.789 revise paragraph (a) to read as follows:

§ 117.789 Harlem River.

(a) Each drawbridge across the Harlem River, except the Spuyten Duyvil railroad bridge, need not be opened from 5 p.m. to 10 a.m. However, at all times, public vessels of the United States shall be passed through each drawbridge listed in this section as soon as possible.

* * * * *

72. In § 117.791 remove paragraph (a)(3); redesignate paragraphs (a)(4) and (a)(5) as (a)(3) and (a)(4) and revise paragraph (f)(4) to read as follows:

§ 117.791 Hudson River.

* * * * *

(f) * * *

(4) During the period that the Federal Lock at Troy is inoperative, the drawbridges need not be opened for the passage of vessels.

§ 117.795 [Amended]

73. In § 117.795, remove paragraph (c).

74. In § 117.797 revise paragraph (a) to read as follows:

§ 117.797 Lake Champlain.

(a) The drawbridges listed in this section shall open as soon as possible for public vessels of the United States.

* * * * *

75. In § 117.799 revise paragraph (a) to read as follows:

§ 117.799 Long Island, New York Inland Waterway From East Rockaway Inlet to Shinnecock Canal.

(a) At all times, public vessels of the United States, state shall be passed through each drawbridge listed in this section as soon as possible.

* * * * *

§ 117.821 [Amended]

76. In § 117.821 remove paragraph (a)(1) and redesignate (a)(2) through (a)(6) as (a)(1) through (a)(5) respectively.

77. In § 117.823 revise paragraph (a)(3) to read as follows:

§ 117.823 Neuse River.

(a) * * *

(3) Shall always open on signal for public vessels of the United States.

* * * * *

78. In § 117.843 revise paragraph (a)(3) to read as follows:

(a) * * *

(3) Shall always open on signal for public vessels of the United States.

* * * * *

§ 117.867 [Removed]

79. Remove § 117.867 [Reserved]

§ 117.869 [Amended]

80. In § 117.869 remove paragraphs (a)(1) and (a)(2).

§ 117.881 [Amended]

81. In § 117.881 remove paragraph (b) and remove the paragraph designator (a) from paragraph (a).

§ 117.885 [Removed]

82. Remove § 117.885 [Reserved]

§ 117.891 [Removed]

83. Remove § 117.891 [Reserved]

84. Revise § 117.892 to read as follows:

§ 117.892 South Slough.

The Oregon State Highway drawbridge across South Slough at Charleston must open on signal for the passage of vessels, except that between the hours of 7 a.m. and 7 p.m., from June 1 through September 30, the drawbridge need be opened only on the hour and half-hour. This exception must not apply to commercial tugs and/or tows or public vessels of the United States.

§ 117.907 [Removed]

85. Remove § 117.907.

86. In § 117.911 revise paragraph (a) to read as follows:

§ 117.911 Atlantic Intracoastal Waterway, Little River to Savannah River.

(a) General. Public vessels of the United States, upon proper signal, will be passed through each drawbridge listed in this section at anytime.

* * * * *

§ 117.949 [Amended]

87. In § 117.949 remove the last sentence.

88. Revise § 117.968 to read as follows:

§ 117.968 Gulf Intracoastal Waterway.

The Port Isabel Drawbridge, mile 666.0, must open on signal; except that, from 5 a.m. to 8 p.m. on weekdays only, excluding holidays, the drawbridge need open only on the hour for pleasure craft. The drawbridge shall open on signal at any time for commercial vessels. When the drawbridge is open for a commercial vessel, waiting pleasure craft must be passed.

89. Revise § 117.977 to read as follows:

§ 117.977 Pelican Island Causeway, Galveston Channel.

The Pelican Island Causeway Drawbridge, mile 356.1 across Galveston Channel at Galveston, shall open on signal: except that, from 7 a.m. to 8:30 a.m., 12 noon to 1 p.m., and 4:15 p.m. to 5:15 p.m. Monday through Friday except Federal holidays, the drawbridge need not open for the passage of vessels. Public vessels of the United States shall be passed at any time.

90. In § 117.993 revise paragraph (a) to read as follows:

§ 117.993 Lake Champlain.

(a) The drawbridges listed in this section shall open as soon as possible for the passage of public vessels of the United States.

* * * * *

91. In § 117.997 the last sentence in paragraph (g) and revise paragraphs (b)(2)(i), (d)(2)(i), and (f) to read as follows:

§ 117.997 Atlantic Intracoastal Waterway, South Branch of the Elizabeth River to the Albermarle and Chesapeake Canal.

* * * * *

(b) * * *

(2) * * *

(i) Need not open for the passage of pleasure craft or commercial vessels that do not qualify under paragraph (b)(2)(ii) of this section.

* * * * *

(d) * * *

(2) * * *

(i) Need not open for the passage of pleasure craft or commercial vessels that do not qualify under paragraph (d)(2)(ii) of this section.

* * * * *

(f) The Draw of the Dominion Boulevard Bridge, mile 8.8, in Chesapeake shall open on signal, except from 7 a.m. to 9 a.m. and from 4 p.m. to 6 p.m. Monday through Friday, except federal holidays, the drawbridge need not open for the passage of recreational vessels.

* * * * *

92. In § 117.1023 revise paragraph (b) to read as follows:

§ 117.1023 Pamunkey River.

* * * * *

(b) Public vessels of the United States shall pass at any time.

§ 117.1039 [Removed]

93. Remove § 117.1039 [Reserved]

Appendix A to Part 117 [Removed]

94. Remove Appendix A to Part 117.

Dated: April 3, 2003.
David S. Belz,
Rear Admiral, U.S. Coast Guard, Assistant Commandant for Operations.

[FR Doc. 03-9083 Filed 4-16-03; 8:45 am]

BILLING CODE 4910-15-P